OFFICE OF PERSONNEL MANAGEMENT

5 CFR Part 532

RIN 3206-AL82

Prevailing Rate Systems; Redefinition of the Boise, ID, and Utah Appropriated Fund Federal Wage System Wage Areas

AGENCY: U.S. Office of Personnel Management.

ACTION: Proposed rule with request for comments.

SUMMARY: The U.S. Office of Personnel Management is issuing a proposed rule that would redefine the geographic boundaries of the Boise, ID, and Utah appropriated fund Federal Wage System (FWS) wage areas. The proposed rule would redefine Franklin County, ID, from the Boise wage area to the Utah wage area. These changes are based on recent consensus recommendations of the Federal Prevailing Rate Advisory Committee to best match the counties proposed for redefinition to a nearby FWS survey area. No other changes are proposed for the Boise and Utah FWS wage areas.

DATES: We must receive comments on or before April 8, 2009.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management (OPM) is issuing a proposed rule to redefine the Boise, ID, and Utah appropriated fund Federal Wage System (FWS) wage areas. This proposed rule would redefine Franklin County, ID, from the Boise wage area to the Utah wage area.

OPM considers the following regulatory criteria under 5 CFR 532.211 when defining FWS wage area boundaries:

i. Distance, transportation facilities, and geographic features;

ii. Commuting patterns; and

iii. Similarities in overall population, employment, and the kinds and sizes of private industrial establishments.

Franklin County, ID and Cache County, UT, comprise the Logan, UT-ID Metropolitan Statistical Area (MSA). The Logan MSA is split between the Boise, ID, wage area and the Utah wage area. Franklin County is part of the area of application of the Boise wage area and Cache County is part of the area of application of the Utah wage area.

Based on an analysis of the regulatory criteria for Cache County, the location of the main population center in the Logan MSA, we recommend that the entire Logan MSA be defined to the Utah wage area. The distance criterion for Cache County favors the Utah wage area more than the Boise wage area. The commuting patterns criterion favors the Utah wage area. All other criteria are inconclusive. We believe our regulatory analysis findings indicate that Cache County is appropriately defined to the Utah wage area. OPM regulations at 5 CFR 532.211 permit splitting MSAs only in very unusual circumstances (e.g., organizational relationships among closely located Federal activities). There appear to be no unusual circumstances that would permit splitting the Logan MSA. To comply with OPM regulations not to split MSAs, Franklin County would be redefined to the Utah wage area.

The Federal Prevailing Rate Advisory Committee (FPRAC), the national labor-management committee responsible for advising OPM on matters concerning the pay of FWS employees, recommended these changes by consensus. These changes would be effective on the first day of the first applicable pay period beginning on or after 30 days following publication of the final regulations. FPRAC recommended no other changes in the geographic definitions of the Boise and Utah wage areas.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Kathie Ann Whipple,
Acting Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Boise, ID, and Utah wage areas to read as follows:

Appendix C to Subpart B of Part 532—Appropriated Fund Wage and Survey Areas

* * * * *

Idaho
Boise
Survey Area
Idaho:
Ada
Boise
Canyon
Elmore
Gem
Area of Application. Survey area plus:
Idaho:
Adams
Bannock
Bear Lake
Bingham
Blaine
Bonneville
Butte
Camas
Caribou
Cassia
Clark
Custer
Fremont
Gooding
Jefferson
Jerome
Lemhi
Lincoln
Madison
Minidoka
Oneida
Owyhee
Payette
Power
Teton
Twin Falls
Valley
Washington
* * * * *
Utah
Survey Area
Utah:
Box Elder
Davis
Salt Lake
Tooele
Utah
Weber
Area of Application. Survey area plus:
Utah:
Beaver
Cache
Carbon
Daggett
Duchesne
Emery
Garfield
Grand
Iron
Juab
Millard
Morgan
Piute
Rich
San Juan (Only includes the Canyonlands National Park portion.)
Sanpete
Sevier
Summit
Uintah
Wasatch
Washington
Wayne
Colorado:
Mesa
Moffat
Idaho:
Franklin
* * * * *

[FR Doc. E9-4921 Filed 3-6-09; 8:45 am]

BILLING CODE 6325-39-P